DEPARTMENT OF COMMERCE

National Oceanic and Atmospheric Administration

[I.D. 083005A]

Advisory Committee to the U.S. Section to the International Commission for the Conservation of Atlantic Tunas (ICCAT); Fall Meetings

AGENCY: National Marine Fisheries Service (NMFS), National Oceanic and Atmospheric Administration (NOAA), Commerce.

ACTION: Notice of public meeting.

SUMMARY: In preparation for the 2005 ICCAT meeting, the Advisory Committee to the U.S. Section to International Commission for the Conservation of Atlantic Tunas (ICCAT) will hold two fall meetings. A summary of the meeting topics is provided in the SUPPLEMENTARY INFORMATION section of this notice.

DATES: The open sessions will be held on September 21, 2005, from 8:30 a.m. to 12:15 p.m. and October 17, 2005, from 8 a.m. to 10:30 a.m. Closed sessions will be held on September 21, 2005, from 1:30 p.m. to 5:30 p.m.; September 22, 2005, from 8 a.m. to 12 p.m.; October 17, 2005, from 11 a.m. to 5 p.m.; and October 18, 2005, from 8:30 a.m. to 12:30 p.m. Oral comments can be presented during the public comment session on October 17, 2005. Written comments on issues being considered at the meeting should be received no later than September 30, 2005.

ADDRESSES: The meetings will be held at the Hilton Hotel, 8727 Colesville Road, Silver Spring, MD 20910. Written comments should be sent to Erika Carlsen at NOAA Fisheries Office of International Affairs, Room 13114, 1315 East-West Highway, Silver Spring, MD 20910.

FOR FURTHER INFORMATION CONTACT: Erika Carlsen, (301) 713-2276.

SUPPLEMENTARY INFORMATION: The Advisory Committee to the U.S. Section to ICCAT will meet twice in open sessions, on September 21 and October 17, 2005, during its fall meetings. At the first session, the Advisory Committee will receive reports on ICCAT intersessional meetings, the domestic implementation of prior ICCAT decisions, and the implementation of Advisory Committee recommendations. At the second session, the Advisory Committee will receive information on the stock status of highly migratory species and management recommendations of ICCAT's Standing Committee on Research and Statistics. The only opportunity for oral public comment will be during the October 17, 2005 open session. Written comments are encouraged and, if mailed, should be received by September 30, 2005 (see ADDRESSES). Written comments can also be submitted during the open sessions of the Advisory Committee meeting.

During its fall meetings, the Advisory Committee will also hold several executive sessions that are closed to the public. The first executive session will be held on September 21, 2005, after the adjournment of the first open session. A second executive session will be held on September 22, 2005. During its second fall meeting, the Advisory Committee will also hold an executive session on October 17, 2005, immediately following the adjournment of the second open session. The final closed session will be held October 18, 2005. The purpose of these sessions is to discuss sensitive information relating to upcoming international negotiations.

NMFS expects members of the public to conduct themselves appropriately for the duration of the meeting. At the beginning of the public comment session, an explanation of the ground rules will be provided (e.g., alcohol in the meeting room is prohibited, speakers will be called to give their comments in the order in which they registered to speak, each speaker will have an equal amount of time to speak, and speakers should not interrupt one another). The session will be structured so that all attending members of the public are able to comment, if they so choose, regardless of the degree of controversy of the subject(s). Those not respecting the ground rules will be asked to leave the meeting.

Special Accommodations

The meeting locations are physically accessible to people with disabilities. Requests for sign language interpretation or other auxiliary aids should be directed to Erika Carlsen at (301) 713-2276 at least five days prior to the meeting date.

Dated: September 7, 2005.
Alan D. Risenhoover,
Deputy Director, Office of Sustainable Fisheries, National Marine Fisheries Service.

[FR Doc. 05-18077 Filed 9-8-05; 12:35 pm]

BILLING CODE 3510-22-S